INTERNATIONAL TRADE COMMISSION

[Inv. Nos. 701-TA-355 and 731-TA-659-660]

Grain-Oriented Silicon Electrical Steel From Italy and Japan, Notice and Scheduling of Third Remand Proceeding

AGENCY: U.S. International Trade Commission.

ACTION: Notice.

SUMMARY: The U.S. International Trade Commission (“the Commission”) hereby gives notice of proceedings in the remand investigation ordered by the United States Court of International Trade in Grain-Oriented Silicon Electrical Steel from Italy and Japan, Invs. Nos. 701-TA-355 and 731-TA-659-660.

FOR FURTHER INFORMATION CONTACT: Douglas Corkran, Office of Investigations, telephone 202-205-2057 or Gracemary R. Roth-Roffy, Esq., Office of the General Counsel, telephone (202) 205-3117, U.S. International Trade Commission, 500 E Street, SW., Washington, DC 20436. Hearing-impaired persons are advised that information on this matter can be obtained by contacting the Commission's TODD terminal on (202) 205-1810. The public record for this investigation may be viewed on the Commission's electronic docket (EDIS) at www.http://edis.usitc.gov. General information concerning the Commission may also be obtained by accessing its Internet server (http://www.usitc.gov).

SUPPLEMENTARY INFORMATION:

Background

On February 23, 2001, the Commission determined that revocation of the countervailing duty order on grain-oriented electrical steel (“GOES”) from Italy would be likely to lead to continuation or recurrence of material injury to an industry in the United Sates within a reasonably foreseeable time. The Commission also determined that revocation of the antidumping duty orders on GOES from Italy and Japan would be likely to lead to the continuation or recurrence of material injury to an industry in the United States within a reasonably foreseeable time. Grain-Oriented Silicon Electrical Steel from Italy and Japan, Invs. Nos. 701-TA-355 and 731-TA-659-660 (Review) USITC Pub. 3396 (February 2001). The Commission's determinations were appealed to the U.S. Court of International Trade (“Court”). On December 24, 2002, the Court remanded the Commission's determinations on the grounds that the Commission did not apply the correct “likely” standard; that the Commission failed to specifically discuss each of the four factors outline in 19 U.S.C 1675a(a)(2)(A)-(D); and that the Commission failed to discuss whether the likely volume of imports of subject merchandise would be significant in absolute terms or relative to U.S. production and consumption, pursuant to 19 U.S.C. 1675a(a)a92). Nippon Steel Crop., et al. v United States, Slip Op 02-153 (December 24, 2002).

On first remand, the Commission again found that revocation of the countervailing duty order on GOES from Italy, and the antidumping duty orders on GOES from Italy and Japan would be likely to lead to a continuation or recurrence of material injury to an industry in the United States within a reasonably foreseeable time. Grain-Oriented Silicon Electrical Steel from Italy and Japan, Invs. Nos. 701-TA-355 and 731-TA-659-660 (Remand) (Review), USITC Pub. 3585 (March 2003). On December 17, 2003, the Court issued an opinion remanding the Commission's first remand determination. Nippon Steel Crop., et al, v. United States, 301 F. Supp 1355 (CIT 2003). Specifically, the Court remanded the Commission's no discernible adverse impact, cumulation, likely volume, likely price and likely impact findings for reconsideration.

On second remand, the Commission found that revocation of the countervailing duty order on GOES from Italy, and the antidumping duty orders on GOES from Italy and Japan, would be likely to lead to a continuation or recurrence of material injury to an industry in the United States within a reasonably foreseeable time. Grain-Oriented Silicon Electrical Steel from Italy and Japan, Inv. Nos. 701-TA-355 and 731-TA-659-660 (Review) (Remand), USITC Pub. 3650 (Mar. 2004).

On June 15, 2005, the Court issued an opinion affirming in part and remanding in part, the Commission's affirmative sunset determination on second remand Specifically, the court affirmed the Commission's determination with respect to discernible adverse impact, cumulation, and likely price effects. However, the court remanded the commission's likely volume and likely adverse impact determinations to the Commission with an order to take further action consistent with its instructions. The Commission is directed to issue its remand determination within 90 days of the issuance of the Court's decision i.e., by September 13, 2005.

Reopening the Record

In order to assist it in making its determination on third remand, the Commission is reopening the record in this investigation to seek additional information with respect to certain of the instructions provided by the Court.

Participation in the Remand Proceedings

Only those interested parties who were parties to the original investigations (i.e., persons listed on the Commission Secretary's service list) may participate in this remand proceeding. No additional filings with the Commission will be necessary for these parties to participate in the remand proceeding. Business proprietary information (BPI) obtained during the remand proceeding will be governed, as appropriate, by the administrative protective order (APO) issued in the original investigations. (Parties who participated in the original investigation, if no longer covered by the APO, are directed to contact the Commission Secretary.)

Written Submissions

Information obtained during the remand investigation will be released to the parties under the administrative protective order (“APO”) issued in the original investigations on or about July 28, 2005. The third remand staff report will be placed in the nonpublic record on August 8, 2005, and a public version will be issued thereafter, pursuant to section 207.22 of the Commission's rules. Parties that are participating in the remand proceedings may file comments on or before August 15, 2005 with respect to how the record, as supplemented, bears on the issues presented by the panel's remand instructions.

No additional factual information may be included in such comments. Comments shall not exceed 20 pages of textual material, double-spaced and single-sided, on stationery measuring 8½ × 11 inches.

All written submissions must conform withe provisions of section 201.8 of the Commission's rules; any submissions that contain business proprietary information (BPI) must also conform with the requirements of sections 201.6, 207.3, and 207.7 of the Commission's rules. The Commission rules do not authorize filing submissions with the Secretary by facsimile or electronic means, except to the extent permitted by section 201.8 of the Commission's rules, as amended, 67 FR 68036 (Nov. 8, 2002).

In accordance with sections 201.16(c) and 207.3 of the Commission's rules, each document filed by a party to the investigations must be served on all other parties to the investigations (as identified by either the public or updated BPI service list), and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

Authority: This action is taken under the authority of the Tariff Act of 1930, title VII.

Issued: July 18, 2005.
By order of the Commission.
Marilyn R. Abbott,
Secretary to the Commission.

[FR Doc. 05-14483 Filed 7-21-05; 8:45 am]

BILLING CODE 7020-02-M